LEGAL SERVICES CORPORATION

Sunshine Act Meetings

TIME AND DATE: The Finance Committee of the Legal Services Corporation's Board of Directors will meet virtually on July 5, 2022. The meeting will commence at 3:00 p.m. EDT and will continue until the conclusion Committee's agenda.

PLACE:

Public Notice of Virtual Meeting.

LSC will conduct the July 5, 2022 meeting via Zoom.

Public Observation: Unless otherwise noted herein, the Finance Committee meeting will be open to public observation via Zoom. Members of the public who wish to participate remotely in the public proceedings may do so by following the directions provided below.

Directions for Open Session

July 5, 2022

• To join the Zoom meeting by computer, please use this link.

• https://lsc-gov.zoom.us/j/84036880893?pwd=SUF3ZWxyblB5TXNDcUJYN0NqM3F3Zz09&from=addon

○ Meeting ID: 840 3688 0893

○ Passcode: 7522

• To join the Zoom meeting with one tap from your mobile phone, please click dial:

○ +13017158592,,84036880893# US (Washington DC)

○ +16468769923,,84036880893# US (New York)

• To join the Zoom meeting by telephone, please dial one of the following numbers:

○ +1 301 715 8592 US (Washington DC)

○ +1 646 876 9923 US (New York)

○ +1 312 626 6799 US (Chicago)

○ +1 669 900 6833 US (San Jose)

○ +1 253 215 8782 US (Tacoma)

○ +1 346 248 7799 US (Houston)

○ +1 408 638 0968 US (San Jose)

○ Meeting ID: 840 3688 0893

○ Passcode: 7522

Once connected to Zoom, please immediately mute your computer or telephone. Members of the public are asked to keep their computers or telephones muted to eliminate background noise. To avoid disrupting the meetings, please refrain from placing the call on hold if doing so will trigger recorded music or other sound.

From time to time, the Finance Committee Chair may solicit comments from the public. To participate in the meeting during public comment, use the `raise your hand' or `chat' functions in Zoom and wait to be recognized by the Chair before stating your questions and/or comments.

STATUS: Open.

MATTERS TO BE CONSIDERED:

1. Approval of Meeting Agenda

2. Public Comment Regarding Fiscal Year 2024 Budget Request

3. Consider and Act on Fiscal Year 2024 Budget Request Resolution #2022-XXX

4. Public Comment on Other Matters

5. Consider and Act on Other Business

6. Consider and Act on Adjournment of Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: June 24, 2022.
Jessica L. Wechter,
Special Assistant to the President, Legal Services Corporation.

[FR Doc. 2022-13920 Filed 6-24-22; 4:15 pm]

BILLING CODE 7050-01-P